DEPARTMENT OF THE INTERIOR

National Park Service

Notice of Intent to Repatriate Cultural Items in the Possession of the Peabody Museum of Archaeology and Ethnology, Harvard University, Cambridge, MA

AGENCY: National Park Service, Interior.

ACTION: Notice.

Notice is hereby given under the Native American Graves Protection and Repatriation Act (NAGPRA), 43 CFR 10.10 (a) (3), of the intent to repatriate cultural items in the possession of the Peabody Museum of Archaeology and Ethnology, Harvard University, Cambridge, MA, that meet the definition of “unassociated funerary objects” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The 37 cultural items are 1 pair of scissors, 8 bracelets, 7 thimbles, 2 knives, 1 glass ball, 2 horn spoons, 1 powder horn, 2 fragments of a powder horn, 1 bone whistle, 1 bone scraper, 2 stones, 1 gunflint, 1 beaded necklace, 6 beaded ornaments and loose beads, and yellow paint.

Prior to 1870, human remains and associated funerary objects were collected by Assistant Surgeon A. I. Comfort, U.S. Army, from graves at the Old Ponca Agency, Knox County, NE. Surgeon Comfort donated the human remains and the associated funerary objects to the Army Medical Museum (forerunner of the National Museum of Health and Medicine), Washington, DC, in 1870. Surgeon Comfort's letter of transmittal to the Army Medical Museum identified the graves as culturally affiliated with the Ponca.

The human remains were later transferred to the Smithsonian Institution, Washington, DC, by the Army Medical Museum. The National Museum of Natural History repatriated these human remains to the Ponca Tribe of Indians of Oklahoma and the Ponca Tribe of Nebraska in 1998.

In 1874, a beaded necklace from one of these graves was transferred to the Peabody Museum of Archaeology and Ethnology from the Army Medical Museum.

In 1876, one powder horn and one gun flint from one of these graves were transferred to the Peabody Museum of Archaeology and Ethnology by the Army Medical Museum. Surgeon Comfort described the gunflint as a “wahintka” or “skin scraper.”

Prior to 1869, human remains and associated funerary objects were collected by Acting Assistant Surgeon G. P. Hachenberg, U.S. Army, from a grave near the Old Ponca Agency, Knox County, NE. Surgeon Hachenberg donated the human remains and associated funerary objects to the Army Medical Museum in 1869. Museum records indicate that the grave was that of a Ponca woman.

The human remains were later transferred to the Smithsonian Institution by the Army Medical Museum. The National Museum of Natural History repatriated these human remains to the Ponca Tribe of Indians of Oklahoma and the Ponca Tribe of Nebraska in 1998.

In 1876, one pair of scissors and one glass ball were transferred to the Peabody Museum of Archaeology and Ethnology from the Army Medical Museum.

Prior to 1871, human remains and associated funerary objects were removed by Assistant Surgeon George N. Hopkins, U.S. Army, from a grave near the Old Ponca Agency, Knox County, NE. Surgeon Hopkins donated these human remains and associated funerary objects to the Army Medical Museum in April of 1871. Surgeon Hopkins' letter of transmittal to the Army Medical Museum identifies the grave as Ponca.

The human remains were later transferred to the Smithsonian Institution by the Army Medical Museum. The National Museum of Natural History repatriated these human remains to the Ponca Tribe of Indians of Oklahoma and the Ponca Tribe of Nebraska in 1998.

In 1876, 32 cultural items including 8 bracelets, 2 horn spoons, 1 bone scraper, 2 butcher knives, 7 thimbles, 1 bone whistle, 6 beaded ornaments and loose beads, 2 stones, 2 fragments of a powder horn, and yellow paint were transferred to the Peabody Museum of Archaeology and Ethnology from the Army Medical Museum.

Because the human remains associated with these cultural items were repatriated to the Ponca Tribe of Indians of Oklahoma and the Ponca Tribe of Nebraska in 1998, these cultural items are considered unassociated funerary objects.

Based on the above information, officials of the Peabody Museum of Archaeology and Ethnology have determined that, pursuant to 43 CFR 10.2 (d) (2) (ii), the 37 cultural items listed above are reasonably believed to have been placed with or near individual human remains at the time of death or later as part of the death rite or ceremony and are believed, by a preponderance of evidence, to have been removed from a specific burial site of a Native American individual. Officials of the Peabody Museum of Archaeology and Ethnology also have determined that, pursuant to 43 CFR 10.2 (e), there is a relationship of shared group identity which can be reasonably traced between these items and the Ponca Tribe of Indians of Oklahoma and the Ponca Tribe of Nebraska.

This notice has been sent to officials of the Ponca Tribe of Indians of Oklahoma and the Ponca Tribe of Nebraska. Representatives of any other Indian tribe that believes itself to be culturally affiliated with these cultural items should contact Barbara Isaac, Repatriation Coordinator, Peabody Museum of Archaeology and Ethnology, 11 Divinity Avenue, Cambridge, MA 02138, telephone (617) 495-2254, before January 5, 2001. Repatriation of these cultural items to the Ponca Tribe of Indians of Oklahoma and the Ponca Tribe of Nebraska may begin after that date if no additional claimants come forward.

Dated: November 17, 2000.
John Robbins,
Assistant Director, Cultural Resources, Stewardship, and Partnerships.

[FR Doc. 00-30997 Filed 12-5-00; 8:45 am]

BILLING CODE 4310-70-F